DEPARTMENT OF JUSTICE

Notice of Lodging of Proposed Consent Judgment Under the Comprehensive Environmental Response, Compensation, and Liability Act

On April 12, 2022, the Department of Justice lodged a proposed Consent Judgment with the United States District Court for the Eastern District of New York in a lawsuit entitled United States v. Northrop Grumman Systems Corporation et al., Civil Action No. 22-cv-02101.

In this action, the United States seeks, as provided under the Comprehensive Environmental Response, Compensation, and Liability Act (“CERCLA”), recovery of response costs from Northrop Grumman Systems Corporation and Northrop Grumman Corporation (collectively “Grumman”) related to its historical operations at the Naval Weapons Industrial Reserve Plant, Bethpage, New York, and adjacent former facilities owned and operated by Grumman's predecessors (“the Sites”). The proposed Consent Judgment resolves the United States' claims against Grumman for the United States' response costs, and related contribution claims, at the Sites.

Under the proposed Consent Judgment, the United States will receive $35,000,000 from Grumman. Of the settlement proceeds, $17,500,000 will go to the Department of the Navy's Environmental Restoration account, and $17,500,000 will go to the United States Treasury.

The settlement (Section IX) provides, in exchange for the above payments, the United States releases and covenants not to sue or to take administrative action against Grumman with respect to claims arising from or relating to the Sites or the related groundwater contamination, including claims for response costs and contribution under CERCLA or other laws. Further, under Section XI, Grumman releases, and covenants not to sue the United States with respect to claims arising from or relating to the Sites or related groundwater contamination, including claims for response costs and contribution under CERCLA or other laws. The Consent Judgment more fully describes these covenants, and Section X identifies certain exceptions to each of the above-referenced covenants.

Under the Consent Judgment, the parties will each continue with their respective response actions and commitments to take response actions to address the Sites, as described in Section VII of the Consent Judgment. Further, the Parties will coordinate and cooperate with each other in implementing their respective response actions to address the Sites, as described in Section VII.

The publication of this notice opens a period for public comment on the proposed Consent Judgment. Comments should be addressed to the Assistant Attorney General, Environment and Natural Resources Division, and should refer to United States v. Northrop Grumman Systems Corp. et al., Civil Action No. 22-cv-02101, D.J. Ref. No. 90-11-3-10336. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Judgment may be examined and downloaded at this Justice Department website: https://www.justice.gov/enrd/consent-decrees. A paper copy of the Consent Judgment will be provided upon written request and payment of reproduction costs. Please mail your request and payment to: Consent Decree Library, U.S. DOJ—ENRD, P.O. Box 7611, Washington, DC 20044-7611.

Please enclose a check or money order for $4.00 (25 cents per page reproduction cost) payable to the United States Treasury.

Henry Friedman,
Assistant Section Chief, Environmental Enforcement Section, Environment and Natural Resources Division.

[FR Doc. 2022-08209 Filed 4-15-22; 8:45 am]

BILLING CODE 4410-15-P